SOCIAL SECURITY ADMINISTRATION

Agency Information Collection Activities: Proposed Request and Comment Request

The Social Security Administration (SSA) publishes a list of information collection packages requiring clearance by the Office of Management and Budget (OMB) in compliance with Public Law (Pub. L.) 104-13, the Paperwork Reduction Act of 1995, effective October 1, 1995. This notice includes revisions and an extension of OMB-approved information collections.

SSA is soliciting comments on the accuracy of the agency's burden estimate; the need for the information; its practical utility; ways to enhance its quality, utility, and clarity; and ways to minimize the burden on respondents, including the use of automated collection techniques or other forms of information technology. Mail, e-mail, or fax your comments and recommendations on the information collection(s) to the OMB Desk Officer and the SSA Reports Clearance Officer to the addresses or fax numbers listed below.

(OMB), Office of Management and Budget, Attn: Desk Officer for SSA, Fax: 202-395-6974, E-mail address: OIRA_Submission@omb.eop.gov.

(SSA), Social Security Administration, DCBFM, Attn: Reports Clearance Officer, 1332 Annex Building, 6401 Security Blvd., Baltimore, MD 21235, Fax: 410-965-6400, E-mail address: OPLM.RCO@ssa.gov.

I. The information collection below is pending at SSA. SSA will submit it to OMB within 60 days from the date of this notice. Therefore, your comments would be most helpful if you submit them to SSA within 60 days from the date of this publication. Individuals can obtain copies of the collection instrument by calling the SSA Reports Clearance Officer at 410-965-3758 or by writing to the e-mail address listed above.

1. Medical or Psychological Review of Childhood Disability Evaluation Form (SSA-538)—20 CFR 416.1040, 416.1043, 416.1045, 416.924(g)—0960-0675. SSA's regional review component use Form SSA-536 to facilitate the contract medical or psychological consultant's review of the Childhood Disability Evaluation Form (SSA-538). The SSA-536 records the reviewing consultant's assessment of the evaluation prepared by the adjudicating component. The consultant completes an SSA-536 for each Title XVI childhood disability case he or she reviews because a Childhood Disability Evaluation Form (SSA-538) is required in each case. The respondents are consultants who review the adjudicating component's completion of the Childhood Disability Evaluation Form (SSA-538).

Type of Request: Revision of an OMB-approved information collection.

Number of Respondents: 256.

Frequency of Response: 66.

Average Burden Per Response: 12 minutes.

Estimated Annual Burden: 3,379 hours.

2. Identifying Information for Possible Direct Payment of Authorized Fees—0960-0730. SSA uses Form SSA-1695 to collect information from appointed representatives to process and facilitate direct payment of authorized fees to a financial institution. SSA will use this information to issue a Form 1099-MISC, if applicable. The respondents are attorneys and other individuals who represent claimants for benefits before SSA.

Type of Request: Extension of an OMB-approved information collection.

Number of Respondents: 10,000.

Frequency of Response: 40.

Average Burden Per Response: 10 minutes.

Estimated Annual Burden: 66,667 hours.

II. SSA has submitted the information collections listed below to OMB for clearance. Your comments on the information collections would be most useful if received by OMB and SSA within 30 days from the date of this publication. You can obtain a copy of the OMB clearance packages by calling the SSA Reports Clearance Officer at 410-965-3758, or by writing to the above listed address.

Application for a Social Security Card—20 CFR 422.103-.110—0960-0066. SSA collects information on Forms SS-5 (used in the United States) and SS-5-FS (used outside the United States) to issue original or replacement Social Security cards. SSA is revising the race/ethnicity question on the forms to comply with Office of Management and Budget standards. Additionally, SSA is making several other minor changes to the form's instructions. The respondents are applicants for original and replacement Social Security cards.

Type of Request: Revision to an OMB-approved information collection.

Application scenario | Number of annual respondents | Completion time (minutes) | Burden hours
Respondents who do not have to provide parents' SSNs | 13,000,000 | 8½ | 1,841,667
Respondents who are asked to provide parents' SSNs (for application for original SSN cards for children under age 18) | 540,000 | 9 | 81,000
Applicants age 12 or older who need to answer additional questions so SSA can determine whether an SSN was previously assigned | 40,000 | 9½ | 6,333
Applicants asking for a replacement SSN card beyond the new allowable limits (i.e., who must provide additional documentation to accompany the application) | 4,000 | 60 | 4,000
Totals | 13,584,000 |  | 1,933,000

Dated: February 18, 2009.
John Biles,
Reports Clearance Officer, Center for Reports Clearance, Social Security Administration.

[FR Doc. E9-3894 Filed 2-24-09; 8:45 am]

BILLING CODE 4191-02-P